DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Usage of Elevators for Occupant Evacuation Questionnaire.

OMB Control Number: 0693-0061.

Form Number(s): None.

Type of Request: Regular submission (reinstatement with change of a previously approved information collection).

Burden Hours: 375.

Number of Respondents: 1,500.

Average Hours per Response: 15 minutes.

Needs and Uses: NIST's research on elevators has primarily focused on the technical aspects of ensuring safe and reliable evacuation for the occupants of tall buildings. In addition, the International Code Council and the National Fire Protection Association provide requirements for the use of elevators for both occupant evacuation and fire fighter access into the building. However, there still is little understanding of how occupants use elevator systems during fire emergencies.

The main focus of this research effort is to gain an understanding of how elevators are currently used by occupants of existing multi-story buildings in the United States during fire emergencies. This research aims to summarize emergency plans and procedures from buildings that make use of one or multiple elevators from the existing elevator system (used for normal building traffic) for the evacuation of building occupants during fire emergencies. The respondents will be contacted to fill out a questionnaire asking about how the buildings' evacuation plans incorporate the use of the existing elevator system to evacuate occupants during fire emergencies, specifically individuals with disabilities, if at all.

Revisions: After further review of the survey, it was determined that some of the survey questions could potentially identify the respondent or at least the individuals with which the respondent works; and the possibility to identify individuals within the respondent's building (i.e., the building occupants or residents). These questions were revised or deleted.

Affected Public: Selected individuals, such as building managers and designated safety personnel, who are familiar with or in charge of developing emergency procedures for multi-story buildings in the United States, including both federal and private sector buildings.

Frequency: One time only.

Respondent's Obligation: Voluntary.

OMB Desk Officer: Jasmeet Seehra, (202) 395-3123.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to, OMB Desk Officer, Jasmeet Seehra, FAX Number (202) 395-5167, or Jasmeet_K._Seehra@omb.eop.gov).

Dated: October 25, 2012.
Gwellnar Banks,
Management Analyst, Office of the Chief Information Officer.

[FR Doc. 2012-26643 Filed 10-29-12; 8:45 am]

BILLING CODE 3510-13-P